POSTAL REGULATORY COMMISSION

[Docket Nos. CP2015-125; Order No. 3243]

New Postal Product

AGENCY: Postal Regulatory Commission.

ACTION: Notice.

SUMMARY: The Commission is noticing a recent Postal Service filing concerning a modification to an existing Global Expedited Package Services 3 negotiated service agreement. This notice informs the public of the filing, invites public comment, and takes other administrative steps.

DATES: Comments are due: April 25, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Filing

III. Ordering Paragraphs

I. Introduction

On April 14, 2016, the Postal Service filed notice that it has agreed to a modification to the existing Global Expedited Package Services 3 negotiated service agreement approved in this docket.¹ In support of its Notice, the Postal Service includes a redacted copy of the Modification and a certification of compliance with 39 U.S.C. 3633(a), as required by 39 CFR 3015.5.

¹ Notice of the United States Postal Service of Filing Modification One to Global Expedited Package Services 3 Negotiated Service Agreement, April 14, 2016 (Notice). The modification is an attachment to the Notice (Modification).

The Postal Service also filed the unredacted Modification, the unredacted certification, and the supporting financial information under seal. The Postal Service seeks to incorporate by reference the Application for Non-Public Treatment originally filed in this docket for the protection of information that it has filed under seal. Notice at 1-2.

The Modification allows the customer to make use of Priority Mail Express International service and amends Annex 1 of the agreement. Id. at 1.

The Postal Service intends for the Modification to become effective May 1, 2016. Id. The Postal Service asserts that the Modification will not impair the ability of the contract to comply with 39 U.S.C. 3633. Id. Attachment 2 at 1.

II. Notice of Filing

The Commission invites comments on whether the changes presented in the Postal Service's Notice are consistent with the policies of 39 U.S.C. 3632, 3633, or 3642, 39 CFR 3015.5, and 39 CFR part 3020, subpart B. Comments are due no later than April 25, 2016. The public portions of these filings can be accessed via the Commission's Web site (http://www.prc.gov).

The Commission appoints Curtis E. Kidd to represent the interests of the general public (Public Representative) in this docket.

III. Ordering Paragraphs

It is ordered:

1. The Commission reopens Docket No. CP2015-125 for consideration of matters raised by the Postal Service's Notice.

2. Pursuant to 39 U.S.C. 505, the Commission appoints Curtis E. Kidd to serve as an officer of the Commission (Public Representative) to represent the interests of the general public in this proceeding.

3. Comments are due no later than April 25, 2016.

4. The Secretary shall arrange for publication of this order in the Federal Register.

By the Commission.
Stacy L. Ruble,
Secretary.

[FR Doc. 2016-09240 Filed 4-20-16; 8:45 am]

BILLING CODE 7710-FW-P